DEPARTMENT OF HEALTH AND HUMAN SERVICES

Health Resources and Services Administration

Cancellation of Grant Opportunities Previously Announced in the HRSA Preview on September 4, 2003 (68 FR 52632)

AGENCY: Health Resources and Services Administration (HRSA), HHS.

ACTION: Notice of cancellation.

SUMMARY: The Health Resources and Services Administration (HRSA) announces the cancellation of eight grant opportunities that were initially published in the (September 4, 2003 (68 FR 52632)) Federal Register notice of availability of competitive grant funds for numerous HRSA programs.

EFFECTIVE DATE: March 1, 2004.

FOR FURTHER INFORMATION CONTACT: Gail Lipton, Director, Division of Grants Policy, Office of Financial Policy and Oversight, Telephone (301) 443-6509. (This is not a toll-free number).

SUPPLEMENTARY INFORMATION: The HRSA Preview is a comprehensive listing of HRSA competitive grant programs scheduled for award in Fiscal Year 2004. However, as indicated in the Frequently Asked Questions section of the Preview, programs may be withdrawn from competition. Based on final Fiscal Year 2004 appropriations and a redirection of priorities, HRSA hereby withdraws the following programs and announcements from Fiscal Year 2004 competition:

HRSA-04-021 Bioterrorism Training and Curriculum Development (BTCDP).

HRSA-04-028 Radiation Exposure Screening and Education Program (RESEP).

HRSA-04-036 National Health Center Technical Assistance Cooperative Agreements (NAT).

HRSA-04-046 Telehealth Resource Centers Cooperative Agreement Program (TRCCP).

HRSA-04-049 Title III: Early Intervention Services Planning Grants (EISPG).

HRSA-04-052 Maternal and Child Health Minority Research Infrastructure Support Program (RMIN).

HRSA-04-061 Partnership for Information and Communication (PIC) Cooperative Agreement Program.

HRSA-04-074 Best Practices to Increase Organ Donation (HIP).

These cancellations will be effective immediately upon publication of this Federal Register notice. HRSA will not accept any FY 2004 competitive applications for these funding opportunities, and any applications previously submitted will be returned to the respective applicants. Further information about HRSA programs will be provided through the HRSA Preview at the HRSA Home page at http://www.hrsa.gov.

Dated: February 24, 2004.
Elizabeth M. Duke,
Administrator.

[FR Doc. 04-4506 Filed 2-27-04; 8:45 am]

BILLING CODE 4165-15-P